DEPARTMENT OF LABOR

Employment and Training Administration

[TA-W-54,495]

Milliken & Company, Spartanburg, SC; Notice of Termination of Investigation

Pursuant to section 221 of the Trade Act of 1974, as amended, an investigation was initiated on March 12, 2004, in response to a petition filed on behalf of workers at Milliken & Company, Spartanburg, South Carolina.

The petition has been deemed invalid. The petition was filed by workers that were employed in separately identifiable business divisions of the firm. Consequently, further investigation would serve no purpose and the investigation has been terminated.

Signed in Washington, DC this 21st day of April, 2004.
Linda G. Poole,
Certifying Officer, Division of Trade Adjustment Assistance.

[FR Doc. E4-1055 Filed 5-7-04; 8:45 am]

BILLING CODE 4510-13-P